DEPARTMENT OF DEFENSE

Department of the Navy

[Docket ID: USN-2013-0024]

Privacy Act of 1974; System of Records

AGENCY: Department of the Navy, DoD.

ACTION: Notice to alter a System of Records.

SUMMARY: The Department of the Navy proposes to alter a system of records in its inventory of record systems subject to the Privacy Act of 1974 (5 U.S.C. 552a), as amended.

DATES: This proposed action will be effective on July 25, 2013 unless comments are received which result in a contrary determination. Comments will be accepted on or before July 24, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on June 4, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 19, 2013.
Aaron Siegel,
Alternate OSD Federal Register Liaison Officer, Department of Defense.

N01301-2

System name:

On-Line Distribution Information System (ODIS) (July 26, 2010, 75 FR 43500).

Changes:

* * * * *

Categories of records in the system:

Delete entry and replace with “Personnel records in automated form concerning qualifications, assignment, placement, career development, education, training, recall, release from active duty, advancement, performance, retention, reenlistment, separation, morale, personal affairs, benefits, entitlements, and administration to include name, address, Social Security Number (SSN), Department of Defense Identification Number (DoD ID Number), date of birth, place of birth, citizenship, race/ethnicity, marital status, education information (level, college name, major, specialty, graduation year, education duration months, education sponsor), gender, security clearance, designator, military records; rank, military orders and expense data, military training and qualifications, professional assignment history, military performance evaluations, and military promotions.”

Authority for maintenance of the system:

Delete entry and replace with “5 U.S.C. 301, Departmental Regulations; 10 U.S.C. 5013, Secretary of the Navy; 10 U.S.C. 620, Active-duty lists; 10 U.S.C. 617, Reports of Selection Boards and E.O. 9397 (SSN), as amended.”

Purpose(s):

Delete entry and replace with “To assist Navy officials and employees in the classification, qualification determinations, assignment, placement, career development, education, training, recall and release of Navy personnel to meet manpower allocations and requirements.”

* * * * *

Storage:

Delete entry and replace with “Paper and/or electronic storage media.”

Retrievability:

Delete entry and replace with “Records may be retrieved by name, SSN, and/or DoD ID number.”

Safeguards:

Delete entry and replace with “Must have Common Access Card (CAC) or Public Key Infrastructure (PKI) to enter the Defense Information System Agency (DISA) environment and then at the individual application level logon and password controlled system, files and elements are accessible only to authorized persons having an official need-to-know. Physical access to terminals, terminal rooms, buildings and activities grounds is controlled by locked terminals and rooms, guards, personnel screening and visitor registers.”

Retention and disposal:

Delete entry and replace with “Destroy 1 month after release from active duty, when superseded or when no longer needed for reference, whichever is earliest. Paper records are disposed of by burning or shredding. Electronic records are deleted from encrypted hard drives.”

* * * * *

[FR Doc. 2013-15000 Filed 6-21-13; 8:45 am]

BILLING CODE 5001-06-P